OFFICE OF PERSONNEL MANAGEMENT

Posting of Service Contract Inventory

AGENCY: Office of Personnel Management.

ACTION: Notice of posting.

SUMMARY: The Office of Personnel Management has posted on its public Web site an inventory of the services contracts exceeding $25,000 that were awarded by the agency in Fiscal Year (FY) 2010. The inventory was prepared in accordance with Section 743 of Division C of the FY 2010 Consolidated Appropriations Act, Public Law 111-117, and with a Memorandum from the Office of Federal Procurement Policy dated November 5, 2010. It consists of two parts: (1) A complete listing of all contracts; and (2) A summary by Product or Service Code to show the use of contractors to perform “special interest functions” as well as the services that accounted for the agency's greatest percentage of spend in FY 2010. Both parts of the inventory can be found at: http://www.opm.gov/doingbusiness/contract/businessops.aspx.

FOR FURTHER INFORMATION CONTACT: William N. Patterson, Director, Contracting Group, Facilities, Security and Contracting, Office of Personnel Management, 1900 E Street, NW., Room 1342, Washington, DC 20415. Phone (202) 606-1984 or e-mail at William.Patterson@opm.gov.

U.S. Office of Personnel Management.
John Berry,
Director.

[FR Doc. 2011-13696 Filed 6-1-11; 8:45 am]

BILLING CODE 6325-45-P